DEPARTMENT OF TRANSPORTATION

Federal Aviation Administration

Notice of Intent To Release Certain Properties From All Terms, Conditions, Reservations and Restrictions of a Cancellation of Lease and Quitclaim Agreement Between the City of Fernandina Beach and the Federal Aviation Administration for the Fernandina Beach Municipal Airport, Fernandina Beach, FL

AGENCY: Federal Aviation Administration (FAA), DOT.

ACTION: Request for public comment.

SUMMARY: The FAA hereby provides notice of intent to release certain airport properties (approximately 4.9 acres) at the Fernandina Beach Municipal Airport, Fernandina Beach, FL from the condition, reservations, and restrictions as contained in a Cancellation of Lease and Quitclaim agreement between the FAA and the City of Fernandina Beach, dated July 9, 1947. The release of property will allow the City of Fernandina Beach to dispose of the property for other than aeronautical purposes. The property is located in the northwest corner of the airport in proximity to the approach of Runways 18 and 31. The parcel is currently designated as runway protection zone property. The property will be disposed of for the construction of a public-use access road to Crane Island. The fair market value of the property has been determined by appraisal to be $747,000. The airport will receive fair market value for the property, which will be subsequently reinvested in another eligible airport improvement project.

Documents reflecting the Sponsor's request are available, by appointment only, for inspection at the City Manager's office and the FAA Airports District Office.

SUPPLEMENTARY INFORMATION: Section 125 of the Wendell H. Ford Aviation Investment and Reform Act for the 21st Century (AIR-21) requires the FAA to provide an opportunity for public notice and comment prior to the “waiver” or “modification” of a sponsor's Federal obligation to use certain airport land for non-aeronautical purposes.

DATES: September 17, 2004.

ADDRESSES: Documents are available for review at the City Manager's office, City of Fernandina Beach, 204 Ash Street, Fernandina Beach, FL 32034 and the FAA Airports District Office, 5950 Hazeltine National Drive, Suite 400, Orlando, FL 32822. Written comments on the Sponsor's request must be delivered or mailed to: Richard M. Owen, Program Manager, Orlando Airports District Office, 5950 Hazeltine National Drive, Suite 400, Orlando, FL 32822-5024.

FOR FURTHER INFORMATION CONTACT: Richard M. Owen, Program Manager, Orlando Airports District Office, 5950 Hazeltine National Drive, Suite 400, Orlando, FL 32822-5024.

W. Dean Stringer,
Manager, Orlando Airports District Office, Southern Region.

[FR Doc. 04-18951 Filed 8-17-04; 8:45 am]

BILLING CODE 4910-13-M